DEPARTMENT OF ENERGY

Federal Energy Regulatory Commission

[Docket No. RP06-407-003]

Gas Transmission Northwest Corporation; Notice of Motion to Place Suspended Rates and Tariff Sheets into Effect

January 5, 2007.

Take notice that on December 29, 2006, Gas Transmission Northwest Corporation (GTN) moved to place the rates and tariff sheets suspended in the Commission's July 31, 2006 “Order Accepting and Suspending Tariff Sheets Subject to Refund and Conditions, Establishing Hearing Procedures, and Establishing a Technical Conference” into effect on January 1, 2007. In addition, GTN submitted for filing as part of its FERC Gas Tariff, Third Revised Volume No. 1-A, the following tariff sheets to become effective January 1, 2007:

Third Substitute Ninth Revised Sheet No. 4

Substitute Fourth Revised Sheet No. 5

Substitute Fourth Revised Sheet No. 12

GTN states that these substitute tariff sheets reflect (1) Tariff modifications which were made subsequent to GTN's original filing and (2) the removal of the costs of facilities that will not be in service by the end of the test period, as required by the July 31, 2006 Order. Suspended sheets that were modified subsequent to GTN's original filing are referenced in Appendix A of GTN's motion filing. Sheets that will become effective without change are referenced in Appendix C of GTN's motion filing. GTN moved to place the sheets in both Appendix A and C into effect on January 1, 2007.

GTN further states that a copy of this filing has been served on GTN's jurisdictional customers and interested state regulatory agencies.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E7-287 Filed 1-11-07; 8:45 am]

BILLING CODE 6717-01-P